DEPARTMENT OF HOMELAND SECURITY

U.S. Citizenship and Immigration Services

Agency Information Collection Activities

Agency Information Collection Activities: Request for Electronic Mail and Text Message Notification, Emergency Submission to the Office of Management and Budget (OMB); Comment Request.

ACTION: 45-Day Emergency Notice of Information Collection Under Review: Request for Electronic Mail and Text Message Notification, OMB Control Number 1615-NEW.

The Department of Homeland Security, U.S. Citizenship and Immigration Services (USCIS), has submitted the following emergency information collection, utilizing emergency review procedures, to the Office of Management and Budget (OMB) for review and clearance in accordance with the Paperwork Reduction Act of 1995 (Pub.L. 104-13, 44 U.S.C. 35). The purpose of this notice is to allow 45 days for public comments. Comments are encouraged and will be accepted for thirty days until September 10, 2009. This process is conducted in accordance with 5 CFR 1320.10.

Written comments and/or suggestions regarding the item(s) contained in this notice, especially regarding the estimated public burden and associated response time, should be directed to the Department of Homeland Security (DHS), and to the Office of Information and Regulatory Affairs, Office of Management and Budget (OMB), USCIS Desk Officer. Comments may be submitted to: USCIS, Chief, Regulatory Management Division, Clearance Office, 111 Massachusetts Avenue, 3008, Washington, DC 20529-2210. You may also submit comments to DHS via facsimile to 202-272-8352 or via e-mail at rfs.regs@dhs.gov, and to the OMB USCIS Desk Officer via facsimile at 202-395-6974 or via e-mail at oira_submission@omb.eop.gov.

When submitting comments by e-mail please make sure to add OMB-54 in the subject box. Written comments and suggestions from the public and affected agencies should address one or more of the following four points:

(1) Evaluate whether the collection of information is necessary for the proper performance of the functions of the agency, including whether the information will have practical utility;

(2) Evaluate the accuracy of the agency's estimate of the burden of the collection of information, including the validity of the methodology and assumptions used;

(3) Enhance the quality, utility, and clarity of the information to be collected; and

(4) Minimize the burden of the collection of information on those who are to respond, including through the use of appropriate automated, electronic, mechanical, or other technological collection techniques, or other forms of information technology, e.g., permitting electronic submission of responses.

Overview of this information collection:

(1) Type of Information Collection: Emergency request for OMB approval.

(2) Title of the Form/Collection: Request for Electronic Mail and Text Message Notification.

(3) Agency form number, if any, and the applicable component of the Department of Homeland Security sponsoring the collection: No form number. U.S. Citizenship and Immigration Services.

(4) Affected public who will be asked or required to respond, as well as a brief abstract: Primary: Individuals and Households. USCIS is posting an announcement on the Forms Web page at http://www.uscis.gov to alert applicants that they may submit their mobile phone numbers and e-mail addresses on an application cover sheet to receive an electronic notification that USCIS has received or taken another action on their application. USCIS plans to incorporate these data fields into all public use forms as their current OMB approval is set to expire.

(5) An estimate of the total number of respondents and the amount of time estimated for an average respondent to respond: 6 million responses at 3 minutes (.05) per response.

(6) An estimate of the total public burden (in hours) associated with the collection: 300,000 annual burden hours.

If you have additional comments, suggestions, or need a copy of the supporting statement, or additional information, please visit the USCIS Web site at: http://www.regulations.gov/search/index.jsp.

If additional information is required contact: USCIS, Regulatory Management Division, 111 Massachusetts Avenue, Washington, DC 20529-2210, (202) 272-8377.

Dated: July 21, 2009.
Sunday Aigbe,
Chief, Regulatory Products Division, U.S. Citizenship and Immigration Services, Department of Homeland Security.

[FR Doc. E9-17740 Filed 7-24-09; 8:45 am]

BILLING CODE 9111-97-P